DEPARTMENT OF ENERGY

Federal Energy Regulatory Commission

[Docket No. GT01-26-000]

Williston Basin Interstate Pipeline Company; Notice of Tariff Filing

July 20, 2001.

Take notice that on July 16, 2001, Williston Basin Interstate Pipeline Company (Williston Basin), tendered for filing as part of its FERC Gas Tariff, Second Revised Volume No. 1, the following revised tariff sheets to become effective July 16, 2001:

Third Revised Sheet No. 537

Third Revised Sheet No. 587

Williston Basin states that it has revised the above-referenced tariff sheets found in the Form of Transportation Service Agreement Section under Rate Schedules FTN-1 and STN-1 of its Tariff, to rename a line section. The line section is being renamed from (Tioga-Lignite) to (Portal-Tioga) to more clearly identify the line section.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18509 Filed 7-24-01; 8:45 am]

BILLING CODE 6717-01-P